DEPARTMENT OF DEFENSE

Office of the Secretary

Federal Advisory Committee; Meeting of the Department of Defense Historical Advisory Committee

AGENCY: Department of Defense (DoD).

ACTION: Notice of open meeting.

SUMMARY: In accordance with the provisions of the Federal Advisory Committee Act, this notice announces a meeting of the Department of Defense Historical Advisory Committee. During the meeting the Committee will discuss the report of the Department of the Army Subcommittee. The meeting will be open to the public.

DATES: The meeting will be held on Tuesday, May 18, 2010, at 1 p.m.

ADDRESSES: The meeting will be held at 1777 North Kent Street, 14th Floor, Conference Room #2, Arlington, VA 22209.

FOR FURTHER INFORMATION CONTACT: Ms. Carolyn Thorne at 703-588-7890 for information or upon arrival at the building in order to be admitted.

Dated: April 8, 2010.
Mitchell S. Bryman,
Alternate OSD Federal Register Liaison Officer, Department of Defense.

[FR Doc. 2010-8357 Filed 4-12-10; 8:45 am]

BILLING CODE 5001-06-P